POSTAL SERVICE

International Product Change—Global Expedited Package Services—Non-Published Rates

AGENCY: Postal Service™.

ACTION: Notice.

SUMMARY: The Postal Service gives notice of filing a request with the Postal Regulatory Commission to add Global Expedited Package Services—Non-Published Rates 14 (GEPS-NPR 14) to the Competitive Products List.

DATES: Date of notice: June 28, 2018.

FOR FURTHER INFORMATION CONTACT: Kyle R. Coppin, 202-268-2368.

SUPPLEMENTARY INFORMATION: The United States Postal Service® hereby gives notice that, pursuant to 39 U.S.C. 3642, on June 22, 2018, it filed with the Postal Regulatory Commission a Request of the United States Postal Service to add Global Expedited Package Services—Non-Published Rates 14 (GEPS—NPR 14) to the Competitive Products List and Notice of Filing GEPS—NPR 14 Model Contract and Application for Non-Public Treatment of Materials Filed Under Seal. Documents are available at www.prc.gov, Docket Nos. MC2018-186 and CP2018-260.

Ruth Stevenson,
Attorney, Federal Compliance.

[FR Doc. 2018-13879 Filed 6-27-18; 8:45 am]

BILLING CODE 7710-12-P